DEPARTMENT OF TRANSPORTATION

Coast Guard

33 CFR Part 165

[COTP San Diego 01-021]

RIN 2115-AA97

Security Zones; Hoover Dam, Davis Dam, and Glen Canyon Dam

AGENCY: Coast Guard, DOT.

ACTION: Temporary final rule.

SUMMARY: The Coast Guard is establishing three security zones on the Colorado River: one surrounding the Hoover Dam, the second one surrounding the Davis Dam, and the third zone surrounding the Glen Canyon Dam. These actions are necessary to ensure public safety and prevent sabotage or terrorist acts against the public and commercial structures and individuals near or upon these structures. These security zones will prohibit all persons and vessels from entering, transiting through or anchoring within the security zones unless authorized by the Captain of the Port (COTP), or his designated representative.

DATES: This rule is effective from 12 midnight (PST) on November 5, 2001 to 12 midnight (PDT) on June 21, 2002.

ADDRESSES: Any comments and material received from the public, as well as documents indicated in this preamble as being available in the docket, are part of docket COTP San Diego 01-021, and are available for inspection or copying at U.S. Coast Guard Marine Safety Office San Diego, 2716 N. Harbor Drive, San Diego California 92101, between 9 a.m. and 4 p.m., Monday through Friday, except Federal holidays.

FOR FURTHER INFORMATION CONTACT: Lieutenant Rick Sorrell, Chief of Port Operations, Marine Safety Office San Diego, at (619) 683-6495.

SUPPLEMENTARY INFORMATION:

Regulatory Information

We did not publish a notice of proposed rulemaking (NPRM) for this regulation. In keeping with the requirements of 5 U.S.C. 553(b)(B), the Coast Guard finds that good cause exists for not publishing an NPRM. In keeping with the requirements of 5 U.S.C. 553(d)(3), the Coast Guard also finds that good cause exists for making this regulation effective less than 30 days after publication in the Federal Register.

On September 11, 2001, two commercial aircraft were hijacked from Logan Airport in Boston, Massachusetts and flown into the World Trade Center in New York, New York inflicting catastrophic human casualties and property damage. A similar attack was conducted on the Pentagon in Arlington, Virginia on the same day. National security officials warn that future terrorist attacks against high visibility civilian targets may be anticipated. A heightened level of security has been established concerning all vessels and persons transiting in the vicinity of the Colorado River Dams. These security zones are needed to protect the United States and more specifically the people, waterways, and properties of the Colorado River Dams.

The delay inherent in the NPRM process, and any delay in the effective date of this rule, is contrary to the public interest insofar as it may render individuals and facilities within and adjacent to the Colorado River Dams vulnerable to subversive activity, sabotage or terrorist attack. The measures contemplated by the rule are intended to prevent future terrorist attacks against these dams themselves, or individuals and facilities within or adjacent to these dams. Immediate action is required to accomplish these objectives. Any delay in the effective date of this rule is impracticable and contrary to the public interest.

Background and Purpose

On September 11, 2001, terrorists launched attacks on civilian and military targets within the United States killing large numbers of people and damaging properties of national significance. Personnel, vehicles or vessels operating near these installations upon the Colorado River and activities upon adjacent lands present possible situations through which individuals may gain unauthorized access to these installations, or launch terrorist attacks upon the waterfront structures and adjacent population centers.

As part of the Diplomatic Security and Antiterrorism Act of 1986 (Pub. L. 99-399), Congress amended The Ports and Waterways Safety Act (PWSA) to allow the Coast Guard to take actions, including the establishment of security and safety zones, to prevent or respond to acts of terrorism against individuals, vessels, or public or commercial structures. 33 U.S.C. 1226. The terrorist acts against the United States on September 11, 2001, have increased the need for safety and security measures on U.S. ports and waterways.

In response to these terrorist acts, and in order to prevent similar occurrences, the Coast Guard is establishing three temporary security zones in the navigable waters of the United States upon the Colorado River in the vicinity of, and lands immediately adjacent to, the Hoover, Davis, and Glen Canyon Dams. These security zones are necessary to provide for the safety and security of the United States of America and the people, ports, waterways and properties upon the Colorado River. These security zones, prohibiting all vessel traffic from entering, transiting or anchoring within the above described areas, and prohibiting all unauthorized shore based activities in areas surrounding the waterfront structures are necessary for the security and protection of the Colorado River Dams. National Park Service officers or employees and craft enlisted by the COTP will enforce these zones.

These security zones are established within the National Park System—areas of land and water administered by the National Park Service for park, monument, historic, parkway, recreational, or other purposes. See 16 U.S.C. 1c. Under 16 U.S.C. 1a-6, National Park Service officers or employees, who are designated by the Secretary of Interior to maintain law and order and protect persons and property within areas of the National Park System, have the authority to enforce this federal regulation. Persons and vessels are prohibited from entering into these security zones unless authorized by the Captain of the Port or his designated representative. Each person and vessel in a security zone shall obey any direction or order of the COTP. The COTP may remove any person, vessel, article, or thing from a security zone. No person may board, take, or place any article or thing on board, any vessel in a security zone without the permission of the COTP.

Pursuant to 33 U.S.C. 1232, any violation of a security zone described herein, is punishable by civil penalties (not to exceed $27,500 per violation, where each day of a continuing violation is a separate violation), criminal penalties (imprisonment for not more than 6 years and a fine of not more than $250,000), in rem liability against the offending vessel, and license sanctions. Any person who violates this regulation, using a dangerous weapon, or who engages in conduct that causes bodily injury or fear of imminent bodily injury to any officer authorized to enforce this regulation, also faces imprisonment up to 12 years (class C felony).

Regulatory Evaluation

This temporary final rule is not a “significant regulatory action” under section 3(f) of Executive Order 12866, Regulatory Planning and Review, and does not require an assessment of potential costs and benefits under section 6(a)(3) of that Order. The Office of Management and Budget has not reviewed it under that Order. It is not significant under the regulatory policies and procedures of the Department of Transportation (DOT) (44 FR 11040, February 26, 1979).

Due to the recent terrorist actions against the United States the implementation of this security zone is necessary for the protection of the United States and its people. Because these security zones are established in areas near the Colorado River dams which are seldom used, the Coast Guard expects the economic impact of this rule to be so minimal that full regulatory evaluation under paragraph 10(e) of the regulatory policies and procedures of DOT is unnecessary.

Small Entities

Under the Regulatory Flexibility Act (5 U.S.C. 601-612), the Coast Guard considered whether this rule would have a significant economic impact on a substantial number of small entities. The term “small entities” include small businesses, not-for-profit organizations that are independently owned and operated and are not dominant in their fields, and governmental jurisdictions with populations less than 50,000.

These security zones will not have a significant impact on a substantial number of small entities because these security zones are only closing small portions of the navigable waters of the Colorado River. Vessels may still continue to transit other portions of the Colorado River. In addition, there are no small entities on shore or any portions of these security zones. Therefore, the Coast Guard certifies under 5 U.S.C. 605(b) that this temporary final rule will not have a significant economic impact on a substantial number of small entities.

Assistance for Small Entities

In accordance with § 213(a) of the Small Business Regulatory Enforcement Fairness Act of 1996 (Pub. L. 104-121), the Coast Guard offers to assist small entities in understanding the rule so that they can better evaluate its effects on them and participate in the rulemaking process. If your small business or organization is affected by this rule and you have questions concerning its provisions or options for compliance, please contact Lieutenant Rick Sorrell, Chief of Port Operations, Marine Safety Office San Diego, at (619) 683-6495.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule and have determined that this rule does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this rule and concluded that under figure 2-1, paragraph (34), of Commandant Instruction M16475.lD, this rule, which establishes security zones, is categorically excluded from further environmental documentation. A “Categorical Exclusion Determination” is available in the docket for inspection or copying where indicated under ADDRESSES.

List of Subjects in 33 CFR Part 165

Harbors, Marine safety, Navigation (water), Reporting and recordkeeping requirements, Security Measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 50 U.S.C. 191, 33 CFR 1.05-1(g), 6.04-1, 6.04-6, 160.5; 49 CFR 1.46.

2. Add new § 165.T11-049 to read as follows:

§ 165.T11-049 Security Zones: Areas surrounding the Hoover Dam, the Davis Dam, and the Glen Canyon Dam on the Colorado River.

(a) Location. Following are the locations of the three security zones created by this section: (1) Hoover Dam security zone. This security zone will encompass all waters and shoreline areas within the boundaries designated by these GPS coordinates: A point at N36.02209 W-114.75813 (Point A), proceeding east to N36.02209 W-114.73344 (Point B), proceeding north to N36.02934 W-114.73343 (Point C), proceeding east to N36.02857 W-114.71762 (Point D), proceeding south to N36.01764 W-114.71764 (Point E), N36.01764 W-114.72212 (Point F), proceeding south to N36.01033 W-114.72217 (Point G), proceeding west to N36.01033 W-114.72666 (Point H), proceeding south to N35.98873 W-114.72660 (Point I), proceeding west to N35.98872 W-114.74166 (Point J) proceeding south along the east bank of the Colorado River to N35.98557 W-114.74298 (Point K), proceeding west to N35.985 W-114.751 (Point L), proceeding north to N36.006 W-114.750 (Point M), proceeding west to N36.00034 W-114.75806 (Point N), proceeding north to Point A.

(2) Davis Dam security zone. This security zone will encompass all waters and shoreline areas within the boundaries designated by these GPS coordinates : A point at N35.20448 W-114.57940 (Point A), proceeding east to N35.20417 W-114.56109 (Point B), proceeding south to N35.19692 W-114.56108 (Point C), proceeding east to N35.19693 W-114.55666 (Point D), proceeding south to N35.18605 W-114.55664 (Point E), proceeding west to N35.18604 W-114.56913 (Point F), proceeding south to N35.18278 W-114.56899 (Point G), proceeding west to N35.18278 W-114.58024 (Point H), and then north to Point A.

(3) Glen Canyon Dam security zone: This security zone will encompass all waters and shoreline areas within the boundaries designated by these GPS coordinates: A point at N36.56510 W-111.29245 (Point A), proceeding east to N36.56510 W-111.28843 (Point B), proceeding southeast to N36.56294 W-111.28710 (Point C), proceeding southeasterly to N36.55899 W-111.28868 (Point D), proceeding west to N36.55899 W-111.29171 (Point E), proceeding northwesterly to N36.56294 W-111.29247 (Point F), the proceeding northwesterly to point A.

(b) Effective dates. These security zones will be in effect from 12 midnight (PST) on November 5, 2001 to 12 midnight (PDT) on June 21, 2002. If the need for these security zones ends before the scheduled termination time and date, the Captain of the Port will cease enforcement of the security zones and will also announce that fact via Broadcast Notice to Mariners and Local Notice to Mariners.

(c) Regulations. In accordance with the general regulations in § 165.33 of this part, no person or vessel may enter or remain in the security zone established by this temporary regulation, unless authorized by the Captain of the Port, or his designated representative. All other general regulations of § 165.33 of this part apply in the security zone established by this temporary regulation. Persons requesting permission to transit through the security zones must request authorization to do so from the Captain of the Port, who may be contacted at (619) 683-6495 or the United States Department of Interior, Bureau of Reclamation, who may be contacted at (520) 645-0450 for the Glen Canyon Dam, and (702) 293-8302 for the Davis and Hoover Dams.

Dated: November 4, 2001.
S.P. Metruck,
Commander, U.S. Coast Guard, Captain of the Port, San Diego, California.

[FR Doc. 02-3927 Filed 2-15-02; 8:45 am]

BILLING CODE 4910-15-P